SMALL BUSINESS ADMINISTRATION

Disaster Declaration #10958 and #0959; Wisconsin Disaster #WI-00009

AGENCY: U.S. Small Business Administration.

ACTION: Notice.

SUMMARY: This is a notice of an Administrative declaration of a disaster for the State of Wisconsin dated July 30, 2007.

Incident: Severe storms and flooding.

Incident Period: July 18, 2007.

Effective Date: July 30, 2007.

Physical Loan Application Deadline Date: September 28, 2007.

Economic Injury (Eidl) Loan Application Deadline Date: April 30, 2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties:

Grant

Contiguous Counties: Wisconsin

Crawford, Iowa, Lafayette, Richland

Iowa

Clayton, Dubuque.

Illinois

Jo Daviess

The Interest Rates are:

| Percent
Homeowners With Credit Available Elsewhere | 5.750
Homeowners Without Credit Available Elsewhere | 2.875
Businesses With Credit Available Elsewhere | 8.000
Businesses & Small Agricultural Cooperatives Without Credit Available Elsewhere | 4.000
Other (Including Non-Profit Organizations) With Credit Available Elsewhere | 5.250
Businesses And Non-Profit Organizations Without Credit Available Elsewhere | 4.000

The number assigned to this disaster for physical damage is 10958 6 and for economic injury is 10959 0.

The States which received an EIDL Declaration # are Wisconsin, Illinois, and Iowa.

(Catalog of Federal Domestic Assistance Numbers 59002 and 59008)

Dated: July 30, 2007.
Steven C. Preston,
Administrator.

[FR Doc. E7-15185 Filed 8-3-07; 8:45 am]

BILLING CODE 8025-01-P